DEPARTMENT OF STATE

[Public Notice 7392]

In the Matter of the Review of the Designation of al-Aqsa Martyrs' Brigade aka al-Aqsa Martyrs' Battalion as a Foreign Terrorist Organization Pursuant to Section 219 of the Immigration and Nationality Act, As Amended

Based upon a review of the Administrative Record assembled in this matter pursuant to Section 219(a)(4)(C) of the Immigration and Nationality Act, as amended (8 U.S.C. 1189(a)(4)(C)) (“INA”), and in consultation with the Attorney General and the Secretary of the Treasury, I conclude that the circumstances that were the basis for the 2004 re-designation of the aforementioned organization as a foreign terrorist organization have not changed in such a manner as to warrant revocation of the designation and that the national security of the United States does not warrant a revocation of the designation.

Therefore, I hereby determine that the designation of the aforementioned organization as a foreign terrorist organization, pursuant to Section 219 of the INA (8 U.S.C. 1189), shall be maintained.

This determination shall be published in the Federal Register.

Dated: March 24, 2011.
James B. Steinberg,
Deputy Secretary of State.

[FR Doc. 2011-7624 Filed 3-30-11; 8:45 am]

BILLING CODE 4710-10-P